OFFICE OF PERSONNEL MANAGEMENT

Submission for Review: RI 38-115, Representative Payee Survey

AGENCY: Office of Personnel Management.

ACTION: 30-Day notice and request for comments.

SUMMARY: Office of Personnel Management (OPM) offers the general public and other federal agencies the opportunity to comment on the reinstatement of an expired information collection request (ICR), Representative Payee Survey, RI 38-115.

DATES: Comments are encouraged and will be accepted until October 16, 2025.

ADDRESSES: Written comments and recommendations for the proposed information collection should be sent within 30 days of publication of this notice to http://www.reginfo.gov/public/do/PRAMain. Find this particular information collection request by selecting “Office of Personnel Management” under “Currently Under Review,” then check “Only Show ICR for Public Comment” checkbox.

FOR FURTHER INFORMATION CONTACT: A copy of this information collection, with applicable supporting documentation, may be obtained by contacting the Retirement Services Publications Team, Office of Personnel Management, 1900 E Street NW, Room 3316-BD, Washington, DC 20415, Attention: Cyrus S. Benson, or sent via electronic mail to RSPublicationsTeam@opm.gov.

SUPPLEMENTARY INFORMATION: The Office of Personnel Management, in accordance with the Paperwork Reduction Act of 1995 (PRA) (44 U.S.C. 3506(c)(2)(A)), provides the public with an opportunity to comment on proposed, revised, and continuing collections of information. This helps the Agency assess the impact of its information collection requirements and minimize the public's reporting burden. It also helps the public understand the Agency's information collection requirements and provide the requested data in the desired format. OPM is soliciting comments on the proposed information collection request (ICR) that is described below. The Agency is especially interested in public comment addressing the following issues: (1) Is this collection necessary to the proper functions of the Agency; (2) will this information be processed and used in a timely manner; (3) is the estimate of burden accurate; (4) how might the Agency enhance the quality, utility, and clarity of the information to be collected; and (5) how might the Agency minimize the burden of this collection on the respondents, including through the use of information technology. Please note that written comments received in response to this notice will be considered public records. RI 38-115 is used to collect information about how the benefits paid to a representative payee have been used or conserved for the benefit of the incompetent annuitant.

Analysis

Agency: Retirement Operations, Retirement Services, Office of Personnel Management.

Title: Representative Payee Survey.

OMB Number: 3206-0208.

Frequency: Annually.

Affected Public: Individual or Households.

Number of Respondents: 11,000.

Estimated Time per Respondent: 20 minutes.

Total Burden Hours: 3,667.

U.S. Office of Personnel Management.
Alexys Stanley,
Federal Register Liaison.

[FR Doc. 2025-17828 Filed 9-15-25; 8:45 am]

BILLING CODE 6325-38-P